DEPARTMENT OF DEFENSE

Office of the Secretary

[Docket ID: DoD-2024-OS-0056]

Submission for OMB Review; Comment Request

AGENCY: Office of the Under Secretary of Defense for Intelligence and Security (OUSD(I&S)), Department of Defense (DoD).

ACTION: 30-Day information collection notice.

SUMMARY: The DoD has submitted to the Office of Management and Budget (OMB) for clearance the following proposal for collection of information under the provisions of the Paperwork Reduction Act.

DATES: Consideration will be given to all comments received by October 23, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Defense Information System for Security; OMB Control Number 0705-0008.

Type of Request: Revision.

Number of Respondents: 20,994.

Responses per Respondent: 258.

Annual Responses: 5,416,452.

Average Burden per Response: 20 minutes.

Annual Burden Hours: 1,805,484.

Needs and Uses: This information collection is necessary as the DISS system requires personal data collection to facilitate the initiation, investigation, and adjudication of information relevant to DoD security clearances and employment suitability determinations for active-duty military, civilian employees, and contractors requiring such credentials. The respondents for this information collection are 45,377 Facility Security Officers (FSOs) working in industry companies, who are responsible for the regular servicing and updating of the DISS records of individuals with an industry person category. The specific purpose of this information collection is for FSOs to update the DISS records of contractor personnel within their company and Security Management Office (SMO) to facilitate DoD Adjudicators and Security Managers obtaining accurate up-to-date eligibility and access information on contractor personnel. FSO respondents electronically collect, update, and complete the collection directly into the DISS application.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: September 17, 2024.
Aaron T. Siegel,
Alternate OSD Federal Register Liaison Officer, Department of Defense.

[FR Doc. 2024-21626 Filed 9-20-24; 8:45 am]

BILLING CODE 6001-FR-P